DEPARTMENT OF ENERGY

Federal Energy Regulatory Commission

Combined Notice of Filings # 1

May 9, 2008.

Take notice that the Commission received the following electric corporate filings:

Docket Numbers: EC08-78-000.

Applicants: Duke Energy Ohio, Inc.; Cinergy Corp.; Cinergy Power Investments, Inc.; Generating Facility LLC.

Description: Amendment to Application and Request for Extended Notice Period for Comments of Cinergy Corp.

Filed Date: 05/06/2008.

Accession Number: 20080506-5107.

Comment Date: 5 p.m. Eastern Time on Tuesday, May 27, 2008.

Take notice that the Commission received the following exempt wholesale generator filings:

Docket Numbers: EG08-71-000.

Applicants: UniSource Energy Development Company.

Description: Self Certification Notice of Exempt Wholesale Generator Status of UniSource Energy Development Company.

Filed Date: 05/07/2008.

Accession Number: 20080507-5020.

Comment Date: 5 p.m. Eastern Time on Wednesday, May 28, 2008.

Take notice that the Commission received the following electric rate filings:

Docket Numbers: ER05-360-003.

Applicants: Old Dominion Electric Cooperative, Inc.

Description: Old Dominion Electric Cooperative submits an application in the Compliance Update proposing that certain limited changes be made to its filed Comprehensive Cost of Service Formula.

Filed Date: 05/06/2008.

Accession Number: 20080508-0211.

Comment Date: 5 p.m. Eastern Time on Tuesday, May 27, 2008.

Docket Numbers: ER08-375-002.

Applicants: Southern California Edison Company.

Description: Southern California Edison Company's Answer to Protest and Request for a Hearing of the Public Utilities Commission of the State of California.

Filed Date: 05/06/2008.

Accession Number: 20080506-5126.

Comment Date: 5 p.m. Eastern Time on Tuesday, May 27, 2008.

Docket Numbers: ER08-603-002.

Applicants: Conectiv Delmarva Generation, LLC.

Description: Conectiv Delmarva Generation, LLC submits Second Amended Notice of Succession that reflects CDG, LLC's adoption of CDG, Inc.'s market-based rate schedule, etc.

Filed Date: 04/30/2008.

Accession Number: 20080501-0064.

Comment Date: 5 p.m. Eastern Time on Wednesday, May 21, 2008.

Docket Numbers: ER08-685-001.

Applicants: TransCanada Maine Wind Development, Inc.

Description: TransCanada Maine Wind Development, Inc., submits an amendment to its Rate Schedule FERC 1.

Filed Date: 05/06/2008.

Accession Number: 20080508-0196.

Comment Date: 5 p.m. Eastern Time on Tuesday, May 27, 2008.

Docket Numbers: ER08-766-001.

Applicants: Southwest Power Pool, Inc.

Description: Southwest Power Pool, Inc., submits revised versions of the unexecuted Network Integration Transmission Service with Kansas Power Pool.

Filed Date: 04/30/2008.

Accession Number: 20080502-0117.

Comment Date: 5 p.m. Eastern Time on Wednesday, May 21, 2008.

Docket Numbers: ER08-900-000.

Applicants: Potomac Edison Company.

Description: Potomac Edison Co. submits a rate schedule and supporting cost data with respect to the cost-based revenue requirement for providing Reactive Support and Voltage Control Generation Sources Services to PJM, etc.

Filed Date: 05/01/2008.

Accession Number: 20080505-0078.

Comment Date: 5 p.m. Eastern Time on Thursday, May 22, 2008.

Docket Numbers: ER08-901-001.

Applicants: Saracen Energy Partners, LP.

Description: Saracen Energy Partners, LP, submits a Supplement to the Petition for Acceptance of Initial Tariff, Waivers and Blanket Authority.

Filed Date: 05/05/2008.

Accession Number: 20080507-0213.

Comment Date: 5 p.m. Eastern Time on Tuesday, May 27, 2008.

Docket Numbers: ER08-909-000.

Applicants: Oncor Electric Delivery Company, LLC.

Description: Oncor Electric Delivery Company, LLC, submits Second Revised Sheet 34 of FERC Electric Tariff, Sixth Revised Volume 2, to become effective 10/9/07.

Filed Date: 05/02/2008.

Accession Number: 20080506-0080.

Comment Date: 5 p.m. Eastern Time on Friday, May 23, 2008.

Docket Numbers: ER08-910-000.

Applicants: Oncor Electric Delivery Company, LLC.

Description: Oncor Electric Delivery Company, LLC submits Second Revised Sheet 37-38 of its FERC Electric Tariff, Eleventh Revised Volume 1.

Filed Date: 05/02/2008.

Accession Number: 20080506-0079.

Comment Date: 5 p.m. Eastern Time on Friday, May 23, 2008.

Docket Numbers: ER08-911-000.

Applicants: Alliant Energy Corporate Services, Inc.

Description: Alliant Energy submits a Wholesale Power Agreement with Rock Energy Cooperative.

Filed Date: 05/02/2008.

Accession Number: 20080506-0078.

Comment Date: 5 p.m. Eastern Time on Friday, May 23, 2008.

Docket Numbers: ER08-912-000.

Applicants: Iberdrola Renewables, Inc.

Description: Iberdrola Renewables, Inc., submits a notice of succession.

Filed Date: 05/02/2008.

Accession Number: 20080506-0077.

Comment Date: 5 p.m. Eastern Time on Friday, May 23, 2008.

Docket Numbers: ER08-915-000.

Applicants: PJM Interconnection, L.L.C.

Description: PJM Interconnection, LLC, submits an executed interim interconnection service agreement with Hawks Nest Hydro, LLC, et al.

Filed Date: 05/05/2008.

Accession Number: 20080507-0214.

Comment Date: 5 p.m. Eastern Time on Tuesday, May 27, 2008.

Docket Numbers: ER08-916-000.

Applicants: Golden Spread Electric Cooperative, Inc.

Description: Golden Spread Electric Cooperative, Inc., submits an amendment to First Revised Rate Schedule 25.

Filed Date: 05/05/2008.

Accession Number: 20080507-0215.

Comment Date: 5 p.m. Eastern Time on Tuesday, May 27, 2008.

Docket Numbers: ER08-917-000.

Applicants: Green Light Energy, LLC.

Description: Green Light Energy, LLC, submits a Petition for Acceptance of Initial Tariff, Waivers and Blanket Authority.

Filed Date: 05/05/2008.

Accession Number: 20080507-0216.

Comment Date: 5 p.m. Eastern Time on Tuesday, May 27, 2008.

Docket Numbers: ER08-918-000.

Applicants: PJM Interconnection, L.L.C.

Description: PJM Interconnection, LLC submits a revision to the scheduling, procedures and operation of the PJM Interchange Energy Market at Section 2.3 of Attachment K.

Filed Date: 05/02/2008.

Accession Number: 20080507-0217.

Comment Date: 5 p.m. Eastern Time on Friday, May 23, 2008.

Docket Numbers: ER08-919-000.

Applicants: PJM Interconnection, L.L.C.

Description: PJM Interconnection, LLC submits a revision to the Reliability Pricing Model at Section 10(l) of Attachment DD.

Filed Date: 05/02/2008.

Accession Number: 20080507-0218.

Comment Date: 5 p.m. Eastern Time on Friday, May 23, 2008.

Docket Numbers: ER08-920-000.

Applicants: ISO New England Inc. and New England Power.

Description: ISO New England Inc. et al. submits revised tariff sheets and supporting testimony re proposed revisions to Schedule 2—Reactive Supply and Voltage Control etc.

Filed Date: 05/02/2008.

Accession Number: 20080507-0219.

Comment Date: 5 p.m. Eastern Time on Friday, May 23, 2008.

Docket Numbers: ER08-921-000.

Applicants: Pacific Gas and Electric Company.

Description: Pacific Gas and Electric Co. submits revised Appendix E to the PG&E-SMUD Interconnection Agreement.

Filed Date: 05/02/2008.

Accession Number: 20080507-0220.

Comment Date: 5 p.m. Eastern Time on Friday, May 23, 2008.

Docket Numbers: ER08-923-000.

Applicants: Xcel Energy Services Inc.

Description: Southwestern Public Service Company submits certain revised unexecuted service agreements for Network Integration Transmission Service under the Xcel Energy Operating Companies Joint Open Access Transmission Tariff etc.

Filed Date: 05/06/2008.

Accession Number: 20080508-0215.

Comment Date: 5 p.m. Eastern Time on Tuesday, May 27, 2008.

Docket Numbers: ER08-924-000.

Applicants: Alliant Energy Corporate Services, Inc.

Description: Wisconsin Power and Light Company submits a Wholesale Power Agreement between Central Wisconsin Electric Cooperative and WPL.

Filed Date: 05/05/2008.

Accession Number: 20080508-0209.

Comment Date: 5 p.m. Eastern Time on Tuesday, May 27, 2008.

Take notice that the Commission received the following open access transmission tariff filings:

Docket Numbers: OA07-84-001.

Applicants: NorthWestern Corporation.

Description: Order No. 890 OATT Filing of NorthWestern Corporation.

Filed Date: 05/06/2008.

Accession Number: 20080506-5111.

Comment Date: 5 p.m. Eastern Time on Tuesday, May 27, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-12430 Filed 6-3-08; 8:45 am]

BILLING CODE 6717-01-P